DEPARTMENT OF AGRICULTURE

Submission for OMB Review; Comment Request

June 24, 2019.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 29, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: School Nutrition and Meal Cost Study-II (SNMCS-II).

OMB Control Number: 0584-NEW.

Summary of Collection: Section 28(a) of the Richard B. Russell National School Lunch Act authorizes the USDA Secretary to conduct performance assessments of the school meal programs, including the nutritional quality of the meals and the costs of producing them. The SNMCS-II will provide a comprehensive picture of the National School Lunch Program (NSLP) and the School Breakfast Program (SBP) and will provide critical information about the nutritional quality, cost, and acceptability of school meals seven years after major reforms began being phased in during the 2012-2013 school year. This study is broken down into two sub-studies: The “mainland study” and the “outlying areas cost study” and has four broad objectives including (1) describing the School Food Authority (SFA) and school environment, food service operating policies and practices, student participation, and other characteristics of schools and SFAs participating in NSLP and SBP, (2) determining the food and nutrient content of school meals and afterschool snacks and the overall nutritional quality of these meals and snacks; (3) determining the cost to produce reimbursable school lunches and breakfasts, including indirect and local administrative costs, and examining the ratio of revenues to costs; and (4) describing student characteristics, participation, student/parent satisfaction, plate waste, and students' dietary intakes. This study will update previous data collected during SY 2014-2015 for the School Nutrition and Meal Cost Study (SNMCS-I).

Need and Use of the Information: This voluntary study will collect data from state agencies, school food authorities, local education authorities, schools, food service management companies, students, and parents/guardians. The data collected from the “mainland study” will provide Federal, State, and local policymakers with current information about how federally sponsored school meal programs are operating. The findings from SNMCS-II will be compared to those from SNMCS-I to explore trends in food service operations, the nutrient content of school meals, meal costs and revenues, and student participation, plate waste, and dietary intakes. The study will also examine relationships among the key domains, especially among nutritional quality, cost, and student participation. Data collected from the “outlying areas cost study” will estimate the costs of producing reimbursable school meals in Alaska, Guam, Hawaii, Puerto Rico, and the United States Virgin Islands, and will examine the relationship of costs to revenues in these States and Territories.

Description of Respondents: State, Local, or Tribal Government; profit/non-profit businesses; and individuals/households.

Number of Respondents: 14,355.

Frequency of Responses: Reporting: One Time Only.

Total Burden Hours: 26,438.

Kimble Brown,
Departmental Information Collection Clearance Officer.

[FR Doc. 2019-13689 Filed 6-26-19; 8:45 am]

BILLING CODE 3410-30-P